DEPARTMENT OF TRANSPORTATION

Federal Aviation Administration

14 CFR Part 71

[Docket No. FAA-2003-16504; Airspace Docket No. 03-ACE-88]

Modification of Class E Airspace; Greenfield, IA

AGENCY: Federal Aviation Administration (FAA), DOT.

ACTION: Direct final rule; request for comments; correction.

SUMMARY: This action corrects a direct final rule; request for comments that was published in the Federal Register on Tuesday, December 9, 2003 (68 FR 68507) (FR Doc. 03-30456). It corrects an error in the Greenfield, IA Class E airspace area legal description.

DATES: This direct final rule is effective on 0901 UTC, April 15, 2004.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register document 03-30456, published on Tuesday, December 9, 2003 (68 FR 68507), modified Class E airspace at Greenfield, IA. The modification enlarged the controlled airspace area around Greenfield Municipal Airport to provide proper protection of diverse departures, corrected a discrepancy in the extension of controlled airspace and brought the Greenfield, IA Class E airspace area legal description into compliance with FAA Order 7400.2E, Procedures for Handling Airspace Matters. However, the Greenfield, IA Class E airspace area legal description was published incorrectly.

Accordingly, pursuant to the authority delegated to me, the Greenfield, IA Class E airspace, as published in the Federal Register on Tuesday, December 9, 2003 (68 FR 68507) (FR Doc. 03-30456), is corrected as follows:

§ 71.1 [Corrected]

On page 68508, Column 2, paragraph headed “ACE IA E5 Greenfield, IA,” next to the last line, change “northwest” to read “southeast.”

Issued in Kansas City, MO, on January 14, 2004.
Elizabeth S. Wallis,
Acting Manager, Air Traffic Division, Central Region.

[FR Doc. 04-2184 Filed 2-2-04; 8:45 am]

BILLING CODE 4910-13-M